FEDERAL COMMUNICATIONS COMMISSION

47 CFR Parts 2, 15 and 68

[CC Docket No. 99-216; FCC 00-400]

2000 Biennial Regulatory Review of Adopting Technical Criteria and Approving Terminal Equipment

AGENCY: Federal Communications Commission.

ACTION: Final rule.

SUMMARY: This document privatizes the process by which technical criteria are established for customer premises equipment (CPE or terminal equipment) that may be sold for connection to the public switched telephone network, and for the approval of such equipment to demonstrate compliance with the relevant technical criteria. Streamlining these procedures will reduce unnecessary costs and delays associated with bringing terminal equipment to the consumer without measurably increasing the possibility of harm to the public switched telephone network. Privatizing the terminal equipment approval process will significantly reduce the Commission's regulatory burden and allow it to focus on enforcement of the industry-established technical criteria for terminal equipment. The Commission will maintain its role as the forum of last resort for disputes regarding terminal equipment standards and approval procedures.

DATES: Effective February 23, 2001, except that § 68.105 and the definition of “demarcation point” in § 68.3 will not be effective until approval of the Office of Management and Budget has been obtained. The FCC will publish a document announcing the effective date of this rule and definition.

FOR FURTHER INFORMATION CONTACT: Susan Magnotti, 202/418-0871, Fax 202/418-2345, TTY 202/4184, smagnott@fcc.gov, Network Services Division, Common Carrier Bureau, or Dennis Johnson, 202/418-0809, Fax 202/418-2345, TTY 202/418-0484, dcjohnso@fcc.gov, Network Services Division, Common Carrier Bureau.

SUPPLEMENTARY INFORMATION: This is a summary of the Commission's Report and Order (Order) in the 2000 Biennial Review of Part 68 of the Commission's Rules and Regulations, CC Docket No. 99-216, FCC 00-400, adopted November 9, 2000 and released December 21, 2000. The full text of the Report and Order is available for inspection and copying during the weekday hours of 9 a.m. to 4:30 p.m. in the FCC Reference Center, Room CY-A257, 445 12th Street, SW., Washington, DC 20554, or copies may be purchased from the Commission's copy contractor, International Transcription Services, Inc., 445 12th Street, SW., Suite CY-B400, Washington, DC 20554, phone (202) 857-3800.

Synopsis of the Report and Order

1. In May 2000, the Commission released a Notice of Proposed Rulemaking (NPRM), 65 FR 34629 (May 31, 2000) proposing to privatize most elements of the process by which technical criteria are established for customer premises equipment (CPE or terminal equipment) as well as the compliance assessment procedures for such equipment. In response, the majority of comments recommended adoption of the Commission's proposals. This Order will streamline the Commission's rules by allowing the Commission to replace approximately 130 pages of technical criteria currently in the rules with only a few pages of simple principles that terminal equipment shall not cause any of the prescribed harms to the public switched telephone network, that providers of telecommunications must allow the connection of compliant terminal equipment to their networks, and that the Commission will enforce diligently compliance with these rules.

2. Specifically, in the Report and Order, the Commission transfers the responsibility for establishing technical criteria to the Administrative Council for Terminal Attachments (Administrative Council). The purpose of the Administrative Council is to act as the clearinghouse publishing technical criteria for terminal equipment developed by ANSI-accredited standards development organizations. This approach ensures that all manufacturers know which terminal equipment technologies can be connected to the public switched telephone network and all providers of telecommunications can deploy services and design their networks to permit connection consistent with these technical criteria.

3. In the Report and Order we select TIA and ATIS, to serve as the joint sponsoring organization of the Administrative Council. Although the first responsibility of the co-sponsors, TIA and ATIS, is to send out a call to the industry to convene an organizational meeting for the purpose of establishing the Administrative Council for Terminal Attachments discussed below, the primary ongoing purpose of the sponsoring organization will be to provide administrative and secretarial support to the Administrative Council. The sponsoring organization is responsible for ensuring that the industry populates the Administrative Council in a manner consistent with ANSI criteria for a balanced and open membership. In the Report and Order, we require the sponsor to notify the industry that it intends to establish a Administrative Council with membership that is balanced in terms of the points of view represented. After the Administrative Council is in being, then its relationship with the sponsor becomes contractual. The Administrative Council may contract with the sponsor to provide the appropriate public notice for its actions and for appeals to it. The Administrative Council may also contract with the sponsor to coordinate the industry's assignment of standards-development projects, and take other actions that will support the Administrative Council's functions and coordination of industry standards-setting processes.

4. The Administrative Council will adopt technical criteria for terminal equipment through the act of publishing criteria developed by ANSI-accredited standards development organizations. The Administrative Council will not make substantive decisions regarding the development of technical criteria. The Administrative Council will also be responsible for establishing and maintaining a database of equipment approved as compliant with the technical criteria. The Administrative Council may perform this database function on its own, or may make arrangements with one of the sponsoring organizations to be the administrator of the database. The Order also concludes that the Administrative Council will assume many of the other Commission's current part 68 functions, including responding to inquiries from the public regarding the new technical criteria it publishes (the technical criteria that are currently in the part 68 rules, and approved equipment).

5. In addition, the Order completely eliminates the Commission's direct role in approving terminal equipment. Manufacturers will have the option of demonstrating conformity to the appropriate technical criteria by either seeking approval from Telecommunications Certification Bodies (TCBs) or by providing customers and the Administrative Council with a Supplier's Declaration of Conformity (SDoC), in accordance with the rules established in the Order. This streamlined approach relies on the common vested interest of terminal equipment manufacturers and providers of telecommunications in safeguarding the public switched telephone network, while also eliminating direct government involvement in establishing technical criteria for terminal equipment and in registering or approving terminal equipment that meets those technical criteria.

6. The Commission will retain in its rules the technical criteria relating to inside wiring, hearing aid compatibility and volume control, and consumer protection provisions. The Commission will also retain enforcement procedures for terminal equipment compliance and an appeal procedure for the Administrative Council's decisions. Finally, the Order updates the complaint procedures for the Commission's hearing aid compatibility and volume control rules.

List of Subjects

47 CFR Part 2

Communications equipment, Telecommunications.

47 CFR Part 15

Communications equipment, Telephone.

47 CFR Part 68

Administrative practice and procedure, Communications equipment, Labeling, Reporting and recordkeeping requirements, Telecommunications, Telephone.

Federal Communications Commission.
William F. Caton,
Deputy Secretary.

Final Rules

For the reasons stated in the preamble, the Federal Communication Commission amends parts 2, 15, and 68 of the Code of Federal Regulations as follows:

PART 2—[AMENDED]

1. The authority citation for part 2 continues to read as follows:

Authority: 47 U.S.C. 154, 301, 303, 307, 336, and 337, unless otherwise noted.

Subpart L—[Removed]

2. Remove Subpart L, consisting of §§ 2.1300 and 2.1302.

PART 15—[AMENDED]

3. The authority citation for part 15 continues to read as follows:

Authority: 47 U.S.C. 154, 302, 303, 304, 307, and 544A.

4. Section 15.214(b) is revised to read as follows:

§ 15.214 Cordless telephones.

* * * * *

(b) A cordless telephone that is intended to be connected to the public switched telephone network shall also comply with the applicable regulations in part 68 of this chapter. A separate procedure for approval under part 68 is required for such terminal equipment.

* * * * *

PART 68—[AMENDED]

5-6. The authority citation for part 68 continues to read as follows:

Authority: 47 U.S.C. 154, 155 and 303.

7. Section 68.2 is revised to read as follows:

§ 68.2 Scope.

(a) Except as provided in paragraphs (b) and (c) of this section, the rules and regulations apply to direct connection of all terminal equipment to the public switched telephone network for use in conjunction with all services other than party line services.

(b) National defense and security. Where the Secretary of Defense or authorized agent or the head of any other governmental department, agency, or administration (approved in writing by the Commission to act pursuant to this rule) or authorized representative, certifies in writing to the appropriate common carrier that compliance with the provisions of part 68 could result in the disclosure of communications equipment or security devices, locations, uses, personnel, or activity which would adversely affect the national defense and security, such equipment or security devices may be connected to the telephone company provided communications network without compliance with this part, provided that each written certification states that:

(1) The connection is required in the interest of national defense and security;

(2) The equipment or device to be connected either complies with the technical criteria pertaining thereto or will not cause harm to the nationwide telephone network or to employees of any provider of wireline telecommunications; and

(3) The installation is performed by well-trained, qualified employees under the responsible supervision and control of a person who is a licensed professional engineer in the jurisdiction in which the installation is performed.

(c) Governmental departments, agencies, or administrations that wish to qualify for interconnection of equipment or security devices pursuant to this section shall file a request with the Secretary of this Commission stating the reasons why the exemption is requested. A list of these departments, agencies, or administrations that have filed requests shall be published in the Federal Register. The Commission may take action with respect to those requests 30 days after publication. The Commission action shall be published in the Federal Register. However, the Commission may grant, on less than the normal notice period or without notice, special temporary authority, not to exceed 90 days, for governmental departments, agencies, or administrations that wish to qualify for interconnection of equipment or security devices pursuant to this section. Requests for such authority shall state the particular fact and circumstances why authority should be granted on less than the normal notice period or without notice. In such cases, the Commission shall endeavor to publish its disposition as promptly as possible in the Federal Register.

8. Section 68.3 is revised to read as follows:

§ 68.3 Definitions.

As used in this part:

Demarcation point (also point of interconnection). As used in this part, the point of demarcation and/or interconnection between the communications facilities of a provider of wireline telecommunications, and terminal equipment, protective apparatus or wiring at a subscriber's premises.

Essential telephones. Only coin-operated telephones, telephones provided for emergency use, and other telephones frequently needed for use by persons using such hearing aids.

Harm. Electrical hazards to the personnel of providers of wireline telecommunications, damage to the equipment of providers of wireline telecommunications, malfunction of the billing equipment of providers of wireline telecommunications, and degradation of service to persons other than the user of the subject terminal equipment, his calling or called party.

Hearing aid compatible. Except as used at §§ 68.4(a)(3) and 68.414, the terms hearing aid compatible or hearing aid compatibility are used as defined in § 68.316, unless it is specifically stated that hearing aid compatibility volume control, as defined in § 68.317, is intended or is included in the definition.

Inside wiring or premises wiring. Customer-owned or controlled wire on the subscriber's side of the demarcation point.

Premises. As used herein, generally a dwelling unit, other building or a legal unit of real property such as a lot on which a dwelling unit is located, as determined by the provider of telecommunications service's reasonable and nondiscriminatory standard operating practices.

Private radio services. Private land mobile radio services and other communications services characterized by the Commission in its rules as private radio services.

Public mobile services. Air-to-ground radiotelephone services, cellular radio telecommunications services, offshore radio, rural radio service, public land mobile telephone service, and other common carrier radio communications services covered by part 22 of Title 47 of the Code of Federal Regulations.

Responsible party. The party or parties responsible for the compliance of terminal equipment or protective circuitry intended for connection directly to the public switched telephone network with the applicable rules and regulations in this part and with the technical criteria published by the Administrative Council for Terminal Attachments. If a Telecommunications Certification Body certifies the terminal equipment, the responsible party is the holder of the certificate for that equipment. If the terminal equipment is the subject of a Supplier's Declaration of Conformity, the responsible party shall be: the manufacturer of the terminal equipment, or the manufacturer of protective circuitry that is marketed for use with terminal equipment that is not to be connected directly to the network, or if the equipment is imported, the importer, or if the terminal equipment is assembled from individual component parts, the assembler. If the equipment is modified by any party not working under the authority of the responsible party, the party performing the modifications, if located within the U.S., or the importer, if the equipment is imported subsequent to the modifications, becomes the new responsible party. Retailers or original equipment manufacturers may enter into an agreement with the assembler or importer to assume the responsibilities to ensure compliance of the terminal equipment and to become the responsible party.

Secure telephones. Telephones that are approved by the United States Government for the transmission of classified or sensitive voice communications.

Terminal equipment. As used in this part, communications equipment located on customer premises at the end of a communications link, used to permit the stations involved to accomplish the provision of telecommunications or information services.

9. Section 68.7 is added to read as follows:

§ 68.7 Technical criteria for terminal equipment.

(a) Terminal equipment shall not cause harm, as defined in § 68.3, to the public switched telephone network.

(b) Technical criteria published by the Administrative Council for Terminal Attachments are the presumptively valid technical criteria for the protection of the public switched telephone network from harms caused by the connection of terminal equipment, subject to the appeal procedures in § 68.614 of this part.

10. Section 68.100 is revised to read as follows:

§ 68.100 General.

In accordance with the rules and regulations in this part, terminal equipment may be directly connected to the public switched telephone network, including private line services provided over wireline facilities that are owned by providers of wireline telecommunications.

11. Section 68.102 is revised to read as follows:

§ 68.102 Terminal equipment approval requirement.

Terminal equipment must be approved in accordance with the rules and regulations in subpart C of this part, or connected through protective circuitry that is approved in accordance with the rules and regulations in subpart C.

§ 68.104 [Removed]

12. Section 68.104 is removed.

13. Section 68.105 is added to read as follows:

§ 68.105 Minimum point of entry (MPOE) and demarcation point.

(a) Facilities at the demarcation point. Carrier-installed facilities at, or constituting, the demarcation point shall consist of wire or a jack conforming to the technical criteria published by the Administrative Council for Terminal Attachments.

(b) Minimum point of entry. The “minimum point of entry” (MPOE) as used herein shall be either the closest practicable point to where the wiring crosses a property line or the closest practicable point to where the wiring enters a multiunit building or buildings. The reasonable and nondiscriminatory standard operating practices of the provider of wireline telecommunications services shall determine which shall apply. The provider of wireline telecommunications services is not precluded from establishing reasonable classifications of multiunit premises for purposes of determining which shall apply. Multiunit premises include, but are not limited to, residential, commercial, shopping center and campus situations.

(c) Single unit installations. For single unit installations existing as of August 13, 1990, and installations installed after that date the demarcation point shall be a point within 30 cm (12 in) of the protector or, where there is no protector, within 30 cm (12 in) of where the telephone wire enters the customer's premises, or as close thereto as practicable.

(d) Multiunit installations. (1) In multiunit premises existing as of August 13, 1990, the demarcation point shall be determined in accordance with the local carrier's reasonable and non-discriminatory standard operating practices. Provided, however, that where there are multiple demarcation points within the multiunit premises, a demarcation point for a customer shall not be further inside the customer's premises than a point twelve inches from where the wiring enters the customer's premises, or as close thereto as practicable.

(2) In multiunit premises in which wiring is installed, including major additions or rearrangements of wiring existing prior to that date, the provider of wireline telecommunications may place the demarcation point at the minimum point of entry (MPOE). If the provider of wireline telecommunications services does not elect to establish a practice of placing the demarcation point at the minimum point of entry, the multiunit premises owner shall determine the location of the demarcation point or points. The multiunit premises owner shall determine whether there shall be a single demarcation point location for all customers or separate such locations for each customer. Provided, however, that where there are multiple demarcation points within the multiunit premises, a demarcation point for a customer shall not be further inside the customer's premises than a point 30 cm (12 in) from where the wiring enters the customer's premises, or as close thereto as practicable. At the time of installation, the provider of wireline telecommunications services shall fully inform the premises owner of its options and rights regarding the placement of the demarcation point or points and shall not attempt to unduly influence that decision for the purpose of obstructing competitive entry.

(3) In any multiunit premises where the demarcation point is not already at the MPOE, the provider of wireline telecommunications services must comply with a request from the premises owner to relocate the demarcation point to the MPOE. The provider of wireline telecommunications services must negotiate terms in good faith and complete the relocation within forty-five days from said request. Premises owners may file complaints with the Commission for resolution of allegations of bad faith bargaining by provider of wireline telecommunications services. See 47 U.S.C. 208; 47 CFR 1.720 through 1.736 (1999).

(4) The provider of wireline telecommunications services shall make available information on the location of the demarcation point within ten business days of a request from the premises owner. If the provider of wireline telecommunications services does not provide the information within that time, the premises owner may presume the demarcation point to be at the MPOE. Notwithstanding the provisions of § 68.110(c) of this part, provider of wireline telecommunications services must make this information freely available to the requesting premises owner.

(5) In multiunit premises with more than one customer, the premises owner may adopt a policy restricting a customer's access to wiring on the premises to only that wiring located in the customer's individual unit that serves only that particular customer.

14. Section 68.106 is revised to read as follows:

§ 68.106 Notification to provider of wireline telecommunications.

(a) General. Customers connecting terminal equipment or protective circuitry to the public switched telephone network shall, upon request of the provider of wireline telecommunications, inform the provider of wireline telecommunications of the particular line(s) to which such connection is made, and any other information required to be placed on the terminal equipment pursuant to § 68.354 of this part by the Administrative Council for Terminal Attachments.

(b) Systems assembled of combinations of individually-approved terminal equipment and protective circuitry. Customers connecting such assemblages to the public switched telephone network shall, upon the request of the provider of wireline telecommunications, provide to the provider of wireline telecommunications the following information:

For each line:

(1) Information required for compatible operation of the equipment with the communications facilities of the provider of wireline telecommunications;

(2) The identifying information required to be placed on terminal equipment pursuant to § 68.354 for all equipment dedicated to that line; and

(3) Any other information regarding equipment dedicated to that line required to be placed on the terminal equipment by the Administrative Council for Terminal Attachments.

(4) A list of identifying numbers required to be placed on terminal equipment, if any, by the Administrative Council for Terminal Attachments, pursuant to § 68.354 of this part, for equipment to be used in the system.

(c) Systems using other than “fully protected” premises wiring. Customers who intend to connect premises wiring other than “fully protected” premises wiring to the public switched telephone network shall, in addition to the foregoing, give notice to the provider of wireline telecommunications in accordance with § 68.215(e).

15. Section 68.108 is amended by revising the introductory text to read as follows:

§ 68.108 Incidence of harm.

Should terminal equipment, inside wiring, plugs and jacks, or protective circuitry cause harm to the public switched telephone network, or should the provider of wireline telecommunications reasonably determine that such harm is imminent, the provider of wireline telecommunications shall, where practicable, notify the customer that temporary discontinuance of service may be required; however, wherever prior notice is not practicable, the provider of wireline telecommunications may temporarily discontinue service forthwith, if such action is reasonable under the circumstances. In case of such temporary discontinuance, the provider of wireline telecommunications shall:

* * * * *

16. Section 68.110 is revised to read as follows:

§ 68.110 Compatibility of the public switched telephone network and terminal equipment.

(a) Availability of interface information. Technical information concerning interface parameters not specified by the technical criteria published by the Administrative Council for Terminal Attachments, that are needed to permit terminal equipment to operate in a manner compatible with the communications facilities of a provider of wireline telecommunications, shall be provided by the provider of wireline telecommunications upon request.

(b) Changes in the facilities, equipment, operations, or procedures of a provider of wireline telecommunications. A provider of wireline telecommunications may make changes in its communications facilities, equipment, operations or procedures, where such action is reasonably required in the operation of its business and is not inconsistent with the rules and regulations in this part. If such changes can be reasonably expected to render any customer's terminal equipment incompatible with the communications facilities of the provider of wireline telecommunications, or require modification or alteration of such terminal equipment, or otherwise materially affect its use or performance, the customer shall be given adequate notice in writing, to allow the customer an opportunity to maintain uninterrupted service.

(c) Availability of inside wiring information. Any available technical information concerning wiring on the customer side of the demarcation point, including copies of existing schematic diagrams and service records, shall be provided by the provider of wireline telecommunications upon request of the building owner or agent thereof. The provider of wireline telecommunications may charge the building owner a reasonable fee for this service, which shall not exceed the cost involved in locating and copying the documents. In the alternative, the provider of wireline telecommunications may make these documents available for review and copying by the building owner. In this case, the provider of wireline telecommunications may charge a reasonable fee, which shall not exceed the cost involved in making the documents available, and may also require the building owner to pay a deposit to guarantee the documents' return.

17. The title of Subpart C is revised to read as follows:

Subpart C—Terminal Equipment Approval Procedures

§ 68.200 [Removed]

18. Section 68.200 is removed.

19. Section 68.201 is added to read as follows:

§ 68.201 Connection to the public switched telephone network.

Terminal equipment may not be connected to the public switched telephone network unless it has either been certified by a Telecommunications Certification Body or the responsible party has followed all the procedures in this subpart for Supplier's Declaration of Conformity.

§§ 68.202 through 68.210 [Removed]

20. Sections 68.202 through 68.210 are removed.

21. Section 68.211 is revised to read as follows:

§ 68.211 Terminal equipment approval revocation procedures.

(a) Causes for revocation. The Commission may revoke the interconnection authorization of terminal equipment, whether that authorization was acquired through certification by a Telecommunications Certification Body or through the Supplier's Declaration of Conformity process in §§ 68.320 through 68.350 of this part, where:

(1) The equipment approval is shown to have been obtained by misrepresentation;

(2) The approved equipment is shown to cause harms to the public switched telephone network, as defined in § 68.3;

(3) The responsible party willfully or repeatedly fails to comply with the terms and conditions of its equipment approval; or

(4) The responsible party willfully or repeatedly fails to comply with any rule, regulation or order issued by the Commission under the Communications Act of 1934 relating to terminal equipment.

(b) Notice of intent to revoke interconnection authority. Before revoking interconnection authority under the provisions of this section, the Commission, or the Common Carrier Bureau under delegated authority, will issue a written Notice of Intent to Revoke Part 68 Interconnection Authority, or a Joint Notice of Apparent Liability for Forfeiture and Notice of Intent to Revoke Part 68 Interconnection Authority pursuant to §§ 1.80 and 1.89 of this chapter.

(c) Delivery. The notice will be sent via certified mail to the responsible party for the terminal equipment at issue at the address provided to the Administrative Council for Terminal Attachments.

(d) Reauthorization. A product that has had its approval revoked may not be authorized for connection to the public switched telephone network for a period of six months from the date of revocation of the approval.

(e) Reconsideration or appeal. A responsible party of terminal equipment that has had its authorization revoked and/or that has been assessed a forfeiture may request reconsideration or make administrative appeal of the decision pursuant to part 1 of the Commission's rules: Practice and Procedure, part 1 of this chapter.

§ 68.212 [Removed]

22. Section 68.212 is removed.

23. Section 68.213(b) is revised to read as follows:

§ 68.213 Installation of other than “fully protected” non-system simple customer premises wiring.

* * * * *

(b) Wiring authorized. Unprotected premises wiring may be used to connect units of terminal equipment or protective circuitry to one another, and to carrier-installed facilities if installed in accordance with these rules. The provider of wireline telecommunications is not responsible, except pursuant to agreement between it and the customer or undertakings by it, otherwise consistent with Commission requirements, for installation and maintenance of wiring on the subscriber's side of the demarcation point, including any wire or jacks that may have been installed by the carrier. The subscriber and/or premises owner may install wiring on the subscriber's side of the demarcation point, and may remove, reconfigure, and rearrange wiring on that side of the demarcation point including wiring and wiring that may have been installed by the carrier. The customer or premises owner may not access carrier wiring and facilities on the carrier's side of the demarcation point. Customers may not access the protector installed by the provider of wireline telecommunications. All plugs and jacks used in connection with inside wiring shall conform to the published technical criteria of the Administrative Council for Terminal Attachments. In multiunit premises with more than one customer, the premises owner may adopt a policy restricting a customer's access to wiring on the premises to only that wiring located in the customer's individual unit wiring that serves only that particular customer. See § 68.105 in this part. The customer or premises owner may not access carrier wiring and facilities on the carrier's side of the demarcation point. Customers may not access the protector installed by the provider of wireline telecommunications. All plugs and jacks used in connection with inside wiring shall conform to the published technical criteria of the Administrative Council for Terminal Attachments.

* * * * *

24. Section 68.214 is revised to read as follows:

§ 68.214 Changes in other than “fully protected” premises wiring that serves fewer than four subscriber access lines.

Operations associated with the installation, connection, reconfiguration and removal (other than final removal) of premises wiring that serves fewer than four subscriber access lines must be performed as provided in § 68.215(c) if the premises wiring is not “fully protected.” For this purpose, the supervisor and installer may be the same person.

25. Section 68.215 is amended by revising paragraphs (a)(2), (a)(3), the first sentence of paragraph (d)(5), paragraphs (e)(9), (f)(4), and (g)(1) through (g)(5) and by removing the note after paragraph (d)(2) to read as follows:

§ 68.215 Installation of other than “fully protected” system premises wiring that serves more than four subscriber access lines.

(a) * * *

(2) Between an equipment entity and the public switched telephone network interface(s). Fully-protected premises wiring shall be used to connect equipment entities to the public switched telephone network interface unless the provider of wireline telecommunications is unwilling or unable to locate the interface within 7.6 meters (25 feet) of the equipment entity on reasonable request. In any such case, other than fully-protected premises wiring may be used if otherwise in accordance with these rules.

(3) Hardware protection as part of the facilities of the provider of wireline telecommunications. In any case where the carrier chooses to provide (and the customer chooses to accept, except as authorized under paragraph (g) of this section), hardware protection on the network side of the interface(s), the presence of such hardware protection will affect the classification of premises wiring for the purposes of § 68.215, as appropriate.

* * * * *

(d) * * *

(5) Limitations on electrical signals. Only signal sources that emanate from the provider of wireline telecommunications central office, or that are generated in equipment at the customer's premises and are “non-hazardous voltage sources” as defined in the technical criteria published by the Administrative Council for Terminal Attachments, may be routed in premises telephone wiring, except for voltages for network control signaling and supervision that are consistent with standards employed by the provider of wireline telecommunications. * * *

* * * * *

(e) * * *

(9) The supervisor's signature. The notarized original shall be submitted to the provider of wireline telecommunications at least ten calendar days in advance of the placement and connection of the wiring. This time period may be changed by agreement of the provider of wireline telecommunications and the supervisor. The copy shall be maintained at the premises, available for inspection, so long as the wiring is used for telephone service.

(f) * * *

(4) Monitoring or participation in acceptance testing by the provider of wireline telecommunications. The provider of wireline telecommunications may monitor or participate in the acceptance testing required under this section, in accordance with § 68.215(g) of this part, from its central office test desk or otherwise.

(g) Extraordinary procedures. The provider of wireline telecommunications is hereby authorized to limit the subscriber's right of connecting approved terminal equipment or protective circuitry with other than fully-protected premises wiring, but solely in accordance with this paragraph and § 68.108 of these rules.

(1) (i) Conditions that may invoke these procedures. The extraordinary procedures authorized herein may only be invoked where one or more of the following conditions is present:

(A) Information provided in the supervisor's affidavit gives reason to believe that a violation of part 68 of the FCC's rules is likely.

(B) A failure has occurred during acceptance testing for imbalance.

(C) Harm has occurred, and there is reason to believe that this harm was a result of wiring operations performed under this section.

(ii) The extraordinary procedures authorized in the following subsections shall not be used so as to discriminate between installations by provider of wireline telecommunications personnel and installations by others. In general, this requires that any charges for these procedures be levied in accordance with, or analogous to, the “maintenance of service” tariff provisions: If the installation proves satisfactory, no charge should be levied.

(2) Monitoring or participation in acceptance testing for imbalance. Notwithstanding the previous sub-section, the provider of wireline telecommunications may monitor or participate in acceptance testing for imbalance at the time of the initial installation of wiring in the absence of the conditions listed therein; at any other time, on or more of the listed conditions shall be present. Such monitoring or participation in acceptance testing should be performed from the central office test desk where possible to minimize costs.

(3) Inspection. Subject to paragraph (g)(1) of this section, the provider of wireline telecommunications may inspect wiring installed pursuant to this section, and all of the splicing and connection points required to be accessible by § 68.215(d)(3) to determine compliance with this section. The user or installation supervisor shall either authorize the provider of wireline telecommunications to render the splicing and inspection points visible (e.g., by removing covers), or perform this action prior to the inspection. To minimize disruption of the premises communications system, the right of inspecting is limited as follows:

(i) During initial installation of wiring:

(A) The provider of wireline telecommunications may require withdrawal of up to 5 percent (measured linearly) of wiring run concealed in ducts, conduit or wall spaces, to determine conformance of the wiring to the information furnished in the affidavit.

(B) In the course of any such inspection, the provider of wireline telecommunications shall have the right to inspect documentation required to be maintained at the premises under § 68.215(e).

(ii) After failure of acceptance testing or after harm has resulted from installed wiring: The provider of wireline telecommunications may require withdrawal of all wiring run concealed in ducts, conduit or wall spaces which reasonably could have caused the failure or harm, to determine conformance of the wiring to the information furnished in the affidavit.

(iii) In the course of any such inspection, the provider of wireline telecommunications shall have the right to inspect documentation required to be maintained at the premises under § 68.215(e).

(4) Requiring the use of protective apparatus. In the event that any of the conditions listed in paragraph (g)(1) of this section, arises, and is not permanently remedied within a reasonable time period, the provider of wireline telecommunications may require the use of protective apparatus that either protects solely against hazardous voltages, or that protects both against hazardous voltages and imbalance. Such apparatus may be furnished either by the provider of wireline telecommunications or by the customer. This right is in addition to the rights of the provider of wireline telecommunications under § 68.108.

(5) Notice of the right to bring a complaint. In any case where the provider of wireline telecommunications invokes the extraordinary procedures of § 68.215(g), it shall afford the customer the opportunity to correct the situation that gave rise to invoking these procedures, and inform the customer of the right to bring a complaint to the Commission pursuant to the procedures set forth in subpart E of this part. On complaint, the Commission reserves the right to perform any of the inspections authorized under this section, and to require the performance of acceptance tests.

* * * * *

§ 68.216 [Removed]

26. Section 68.216 is removed.

27. Section 68.218 is revised to read as follows:

§ 68.218 Responsibility of the party acquiring equipment authorization.

(a) In acquiring approval for terminal equipment to be connected to the public switched telephone network, the responsible party warrants that each unit of equipment marketed under such authorization will comply with all applicable rules and regulations of this part and with the applicable technical criteria of the Administrative Council for Terminal Attachments.

(b) The responsible party or its agent shall provide the user of the approved terminal equipment the following:

(1) Consumer instructions required to be included with approved terminal equipment by the Administrative Council for Terminal Attachments;

(2) For a telephone that is not hearing aid-compatible, as defined in § 68.316 of these rules:

(i) Notice that FCC rules prohibit the use of that handset in certain locations; and

(ii) A list of such locations (see § 68.112).

(c) When approval is revoked for any item of equipment, the responsible party must take all reasonable steps to ensure that purchasers and users of such equipment are notified to discontinue use of such equipment.

§ 68.220 [Removed]

28. Section 68.220 is removed.

§ 68.226 [Removed]

29. Section 68.226 is removed.

30. The section heading for part 68, Subpart D is revised to read as follows:

Subpart D—Conditions for Terminal Equipment Approval

31. Section 68.300 is amended by revising paragraph (a), removing paragraph (b), and by redesignating paragraph (c) as paragraph (b) to read as follows:

§ 68.300 Approval of terminal equipment for connection to the public switched telephone network.

(a) Terminal equipment approved as set out in this part must be labeled in accordance with the requirements published by the Administrative Council for Terminal Attachments and with requirements of this part for hearing aid compatibility and volume control.

* * * * *

§§ 68.302 through 68.314 [Removed]

32. Sections 68.302 through 68.314 are removed.

33. Section 68.320 is added to read as follows:

§ 68.320 Supplier's Declaration of Conformity.

(a) Supplier's Declaration of Conformity is a procedure where the responsible party, as defined in § 68.3, makes measurements or takes other necessary steps to ensure that the terminal equipment complies with the appropriate technical standards.

(b) The Supplier's Declaration of Conformity attaches to all items subsequently marketed by the responsible party which are identical, within the variation that can be expected to arise as a result of quantity production techniques, to the sample tested and found acceptable by the responsible party.

(c) The Supplier's Declaration of Conformity signifies that the responsible party has determined that the equipment has been shown to comply with the applicable technical criteria if no unauthorized change is made in the equipment and if the equipment is properly maintained and operated.

(d) The responsible party, if different from the manufacturer, may upon receiving a written statement from the manufacturer that the equipment complies with the appropriate technical criteria, rely on the manufacturer or independent testing agency to determine compliance. Any records that the Administrative Council for Terminal Attachments requires the responsible party to maintain shall be in the English language and shall be made available to the Commission upon a request.

(e) No person shall use or make reference to a Supplier's Declaration of Conformity in a deceptive or misleading manner or to convey the impression that such a Supplier's Declaration of Conformity reflects more than a determination by the responsible party that the device or product has been shown to be capable of complying with the applicable technical criteria published by the Administrative Council of Terminal Attachments.

34. Section 68.321 is added to read as follows:

§ 68.321 Location of responsible party.

The responsible party for a Supplier's Declaration of Conformity must be located within the United States.

35. Section 68.322 is added to read as follows:

§ 68.322 Changes in name, address, ownership or control of responsible party.

(a) The responsible party for a Supplier's Declaration of Conformity may license or otherwise authorize a second party to manufacture the equipment covered by the Supplier's Declaration of Conformity provided that the responsible party shall continue to be responsible to the Commission for ensuring that the equipment produced pursuant to such an agreement remains compliant with the appropriate standards.

(b) In the case of transactions affecting the responsible party of a Supplier's Declaration of Conformity, such as a transfer of control or sale to another company, mergers, or transfer of manufacturing rights, the successor entity shall become the responsible party.

36. Section 68.324 is added to read as follows:

§ 68.324 Supplier's Declaration of Conformity requirements.

(a) Each responsible party shall include in the Supplier's Declaration of Conformity, the following information:

(1) The identification and a description of the responsible party for the Supplier's Declaration of Conformity and the product, including the model number of the product,

(2) A statement that the terminal equipment conforms with applicable technical requirements, and a reference to the technical requirements,

(3) The date and place of issue of the declaration,

(4) The signature, name and function of person making declaration,

(5) A statement that the handset, if any, complies with § 68.316 of these rules (defining hearing aid compatibility), or that it does not comply with that section. A telephone handset which complies with § 68.316 shall be deemed a “hearing aid-compatible telephone” for purposes of § 68.4.

(6) Any other information required to be included in the Supplier's Declaration of Conformity by the Administrative Council of Terminal Attachments.

(b) If the device that is subject to a Supplier's Declaration of Conformity is designed to operate in conjunction with other equipment, the characteristics of which can affect compliance of such device with part 68 rules and/or with technical criteria published by the Administrative Council for Terminal Attachments, then the Model Number(s) of such other equipment must be supplied, and such other equipment must also include a Supplier's Declaration of Conformity or a certification from a Telecommunications Certification Body.

(c) The Supplier's Declaration of Conformity shall be included in the user's manual or as a separate document enclosed with the terminal equipment.

(d) If terminal equipment is not subject to a Supplier's Declaration of Conformity, but instead contains protective circuitry that is subject to a Supplier's Declaration of Conformity, then the responsible party for the protective circuitry shall include with each module of such circuitry, a Supplier's Declaration of Conformity containing the information required under § 68.340(a), and the responsible party of such terminal equipment shall include such statement with each unit of the product.

(e) (1) The responsible party for the terminal equipment subject to a Supplier's Declaration of Conformity also shall provide to the purchaser of such terminal equipment, instructions as required by the Administrative Council for Terminal Attachments.

(2) A copy of the Supplier's Declaration of Conformity shall be provided to the Administrative Council for Terminal Attachments along with any other information the Administrative Council for Terminal Attachments requires; this information shall be made available to the public.

(3) The responsible party shall make a copy of the Supplier's Declaration of Conformity freely available to the general public on its company website. The information shall be accessible to the disabled community from the website. If the responsible party does not have a functional and reliable website, then the responsible party shall inform the Administrative Council for Terminal Attachments of such circumstances, and the Administrative Council for Terminal Attachments shall make a copy available on its website.

(f) For a telephone that is not hearing aid-compatible, as defined in § 68.316 of this part, the responsible party also shall provide the following in the Supplier's Declaration of Conformity:

(1) Notice that FCC rules prohibit the use of that handset in certain locations; and

(2) A list of such locations (see § 68.112).

37. Section 68.326 is added to read as follows:

§ 68.326 Retention of records.

(a) The responsible party for a Supplier's Declaration of Conformity shall maintain records containing the following information:

(1) A copy of the Supplier's Declaration of Conformity;

(2) The identity of the testing facility, including the name, address, phone number and other contact information.

(3) A detailed explanation of the testing procedure utilized to determine whether terminal equipment conforms to the appropriate technical criteria.

(4) A copy of the test results for terminal equipment compliance with the appropriate technical criteria.

(b) For each device subject to the Supplier's Declaration of Conformity requirement, the responsible party shall maintain all records required under § 68.326(a) for at least ten years after the manufacture of said equipment has been permanently discontinued, or until the conclusion of an investigation or a proceeding, if the responsible party is officially notified prior to the expiration of such ten year period that an investigation or any other administrative proceeding involving its equipment has been instituted, whichever is later.

38. Section 68.346 is added to read as follows:

§ 68.346 Description of testing facilities.

(a) Each responsible party for equipment that is subject to a Supplier's Declaration of Conformity under this part, shall compile a description of the measurement facilities employed for testing the equipment. The responsible party for the Supplier's Declaration of Conformity shall retain a description of the measurement facilities.

(b) The description shall contain the information required to be included by the Administrative Council for Terminal Attachments.

39. Section 68.348 is added to read as follows:

§ 68.348 Changes in equipment and circuitry subject to a Supplier's Declaration of Conformity.

(a) No change shall be made in terminal equipment or protective circuitry that would result in any material change in the information contained in the Supplier's Declaration of Conformity Statement furnished to users.

(b) Any other changes in terminal equipment or protective circuitry which is subject to an effective Supplier's Declaration of Conformity shall be made only by the responsible party or an authorized agent thereof, and the responsible party will remain responsible for the performance of such changes.

40. Section 68.350 is added to read as follows:

§ 68.350 Revocation of Supplier's Declaration of Conformity.

(a) The Commission may revoke any Supplier's Declaration of Conformity for cause in accordance with the provisions of this section or in the event changes in technical standards published by the Administrative Council for Terminal Attachments require the revocation of any outstanding Supplier's Declaration of Conformity in order to achieve the objectives of part 68.

(b) Cause for revocation. In addition to the provisions in § 68.211, the Commission may revoke a Supplier's Declaration of Conformity:

(1) For false statements or representations made in materials or responses submitted to the Commission and/or the Administrative Council for Terminal Attachments, or in records required to be kept by § 68.324 and the Administrative Council for Terminal Attachments.

(2) If upon subsequent inspection or operation it is determined that the equipment does not conform to the pertinent technical requirements.

(3) If it is determined that changes have been made in the equipment other that those authorized by this part or otherwise expressly authorized by the Commission.

41. Section 68.354 is added to read as follows:

§ 68.354 Numbering and labeling requirements for terminal equipment.

(a) Terminal equipment and protective circuitry that is subject to a Supplier's Declaration of Conformity or that is certified by a Telecommunications Certification Body shall have labels in a place and manner required by the Administrative Council for Terminal Attachments.

(b) Terminal equipment labels shall include an identification numbering system in a manner required by the Administrative Council for Terminal Attachments.

(c) If the Administrative Council for Terminal Attachments chooses to continue the practice of utilizing a designated “FCC” number, it shall include in its labeling requirements a warning that the Commission no longer directly approves or registers terminal equipment.

(d) Labeling developed for terminal equipment by the Administrative Council for Terminal Attachments shall contain sufficient information for providers of wireline telecommunications, the Federal Communications Commission, and the U.S. Customs Service to carry out their functions, and for consumers to easily identify the responsible party and the manufacturer of their terminal equipment. The numbering and labeling scheme shall be nondiscriminatory, creating no competitive advantage for any entity or segment of the industry.

(e) FCC numbering and labeling requirements existing prior to the effective date of these rules shall remain unchanged until the Administrative Council for Terminal Attachments publishes its numbering and labeling requirements.

42. Section 68.415 is added to read as follows:

§ 68.415 Hearing aid-compatibility and volume control informal complaints.

Persons with complaints under §§ 68.4 and 68.112 that are not addressed by the states pursuant to § 68.414, and all other complaints regarding rules in this part pertaining to hearing aid compatibility and volume control, may bring informal complaints as described in § 68.416 through § 68.420. All responsible parties of terminal equipment are subject to the informal complaint provisions specified in this section.

43. Section 68.417 is added to read as follows:

§ 68.417 Informal complaints; form and content.

(a) An informal complaint alleging a violation of hearing aid compatibility and/or volume control rules in this subpart may be transmitted to the Consumer Information Bureau by any reasonable means, e.g., letter, facsimile transmission, telephone (voice/TRS/TTY), Internet e-mail, ASCII text, audio-cassette recording, and Braille.

(b) An informal complaint shall include:

(1) The name and address of the complainant;

(2) The name and address of the responsible party, if known, or the manufacturer or provider against whom the complaint is made;

(3) A full description of the terminal equipment about which the complaint is made;

(4) The date or dates on which the complainant purchased, acquired or used the terminal equipment about which the complaint is being made;

(5) A complete statement of the facts, including documentation where available, supporting the complainant's allegation that the defendant has failed to comply with the requirements of this subpart;

(6) The specific relief or satisfaction sought by the complainant, and

(7) The complainant's preferred format or method of response to the complaint by the Commission and defendant (e.g., letter, facsimile transmission, telephone (voice/TRS/TTY), Internet e-mail, ASCII text, audio-cassette recording, Braille; or some other method that will best accommodate the complainant's disability).

44. Section 68.418 is added to read as follows:

§ 68.418 Procedure; designation of agents for service.

(a) The Commission shall promptly forward any informal complaint meeting the requirements of § 68.17 to each responsible party named in or determined by the staff to be implicated by the complaint. Such responsible party or parties shall be called on to satisfy or answer the complaint within the time specified by the Commission.

(b) To ensure prompt and effective service of informal complaints filed under this subpart, every responsible party of equipment approved pursuant to this part shall designate and identify one or more agents upon whom service may be made of all notices, inquiries, orders, decisions, and other pronouncements of the Commission in any matter before the Commission. Such designation shall be provided to the Administrative Council for Terminal Attachment and shall include a name or department designation, business address, telephone number, and, if available TTY number, facsimile number, and Internet e-mail address. The Administrative Council shall make this information promptly available without charge to complainants upon request.

45. Section 68.419 is added to read as follows:

§ 68.419 Answers to informal complaints.

Any responsible party to whom the Commission or the Consumer Information Bureau under this subpart directs an informal complaint shall file an answer within the time specified by the Commission or the Consumer Information Bureau. The answer shall:

(a) Be prepared or formatted in the manner requested by the complainant pursuant to § 68.417, unless otherwise permitted by the Commission or the Consumer Information Bureau for good cause shown;

(b) Describe any actions that the defendant has taken or proposes to take to satisfy the complaint;

(c) Advise the complainant and the Commission or the Consumer Information Bureau of the nature of the defense(s) claimed by the defendant;

(d) Respond specifically to all material allegations of the complaint; and

(e) Provide any other information or materials specified by the Commission or the Consumer Information Bureau as relevant to its consideration of the complaint.

46. Section 68.420 is added to read as follows:

§ 68.420 Review and disposition of informal complaints.

(a) Where it appears from the defendant's answer, or from other communications with the parties, that an informal complaint has been satisfied, the Commission or the Consumer Information Bureau on delegated authority may, in its discretion, consider the informal complaint closed, without response to the complainant or defendant. In all other cases, the Commission or the Consumer Information Bureau shall inform the parties of its review and disposition of a complaint filed under this subpart. Where practicable, this information (the nature of which is specified in paragraphs (b) through (d) of this section, shall be transmitted to the complainant and defendant in the manner requested by the complainant, (e.g., letter, facsimile transmission, telephone (voice/TRS/TTY), Internet e-mail, ASCII text, audio-cassette recording, or Braille).

(b) In the event the Commission or the Consumer Information Bureau determines, based on a review of the information provided in the informal complaint and the defendant's answer thereto, that no further action is required by the Commission or the Consumer Information Bureau with respect to the allegations contained in the informal complaint, the informal complaint shall be closed and the complainant and defendant shall be duly informed of the reasons therefor. A complainant, unsatisfied with the defendant's response to the informal complaint and the staff decision to terminate action on the informal complaint, may file a complaint with the Commission or the Common Carrier Bureau as specified in §§ 68.400 through 68.412.

(c) In the event the Commission or the Consumer Information Bureau on delegated authority determines, based on a review of the information presented in the informal complaint and the defendant's answer thereto, that a material and substantial question remains as to the defendant's compliance with the requirements of this subpart, the Commission or the Consumer Information Bureau may conduct such further investigation or such further proceedings as may be necessary to determine the defendant's compliance with the requirements of this subpart and to determine what, if any, remedial actions and/or sanctions are warranted.

(d) In the event that the Commission or the Consumer Information Bureau on delegated authority determines, based on a review of the information presented in the informal complaint and the defendant's answer thereto, that the defendant has failed to comply with or is presently not in compliance with the requirements of this subpart, the Commission or the Consumer Information Bureau on delegated authority may order or prescribe such remedial actions and/or sanctions as are authorized under the Act and the Commission's rules and which are deemed by the Commission or the Consumer Information Bureau on delegated authority to be appropriate under the facts and circumstances of the case.

47. Section 68.423 is added to read as follows:

§ 68.423 Actions by the Commission on its own motion.

The Commission may on its own motion conduct such inquiries and hold such proceedings as it may deem necessary to enforce the requirements of this subpart. The procedures to be followed by the Commission shall, unless specifically prescribed in the Act and the Commission's rules, be such as in the opinion of the Commission will best serve the purposes of such inquiries and proceedings.

Subpart F—[Reserved]

48. Remove and reserve subpart F, consisting of §§ 68.500 through 68.506.

49. Subpart G is added to part 68 to read as follows:

Subpart G—Administrative Council for Terminal Attachments

Sec.
68.602 Sponsor of the Administrative Council for Terminal Attachments.
68.604 Requirements for submitting technical criteria.
68.608 Publication of technical criteria.
68.610 Database of terminal equipment.
68.612 Labels on terminal equipment.
68.614 Oppositions and appeals.

§ 68.602 Sponsor of the Administrative Council for Terminal Attachment.

(a) The Telecommunications Industry Association (TIA) and the Alliance for Telecommunications Industry Solutions (ATIS) jointly shall establish the Administrative Council for Terminal Attachment and shall sponsor the Administrative Council for Terminal Attachments for four years from the effective date of these rules. The division of duties by which this responsibility is executed may be a matter of agreement between these two parties; however, both are jointly and severally responsible for observing these rule provisions. After four years from the effective date of these rules, and thereafter on a quadrennial basis, the Administrative Council for Terminal Attachments may vote by simple majority to be sponsored by any ANSI-accredited organization.

(b) The sponsoring organizations shall ensure that the Administrative Council for Terminal Attachments is populated in a manner consistent with the criteria of American National Standards Institute's Organization Method or the Standards Committee Method (and their successor Method or Methods as ANSI may from time to time establish) for a balanced and open membership.

(c) After the Administrative Council for Terminal Attachments is populated, the sponsors are responsible for fulfilling secretariat functions as determined by the Administrative Council for Terminal Attachments. The Administrative Council for Terminal Attachments shall post on a publicly available website and make available to the public in hard copy form the contract into which it enters with the sponsor or sponsors.

§ 68.604 Requirements for submitting technical criteria.

(a) Any standards development organization that is accredited under the American National Standards Institute's Organization Method or the Standards Committee Method (and their successor Method or Methods as ANSI may from time to time establish) may establish technical criteria for terminal equipment pursuant to ANSI consensus decision-making procedures, and it may submit such criteria to the Administrative Council for Terminal Attachments.

(b) Any ANSI-accredited standards development organization that develops standards for submission to the Administrative Council for Terminal Attachments must implement and use procedures for the development of those standards that ensure openness equivalent to the Commission rulemaking process.

(c) Any standards development organization that submits standards to the Administrative Council for Terminal Attachments for publication as technical criteria shall certify to the Administrative Council for Terminal Attachments that:

(1) The submitting standards development organization is ANSI-accredited to the Standards Committee Method or the Organization Method (or their successor Methods as amended from time to time by ANSI);

(2) The technical criteria that it proposes for publication do not conflict with any published technical criteria or with any technical criteria submitted and pending for publication, and

(3) The technical criteria that it proposes for publication are limited to preventing harms to the public switched telephone network, identified in § 68.3 of this part.

§ 68.608 Publication of technical criteria.

The Administrative Council for Terminal Attachments shall place technical criteria proposed for publication on public notice for 30 days. At the end of the 30 day public notice period, if there are no oppositions, the Administrative Council for Terminal Attachments shall publish the technical criteria.

§ 68.610 Database of terminal equipment.

(a) The Administrative Council for Terminal Attachments shall operate and maintain a database of all approved terminal equipment. The database shall meet the requirements of the Federal Communications Commission and the U.S. Customs Service for enforcement purposes. The database shall be accessible by government agencies free of charge. Information in the database shall be readily available and accessible to the public, including individuals with disabilities, at nominal or no costs.

(b) Responsible parties, whether they obtain their approval from a Telecommunications Certification Body or utilize the Supplier's Declaration of Conformity process, shall submit to the database administrator all information required by the Administrative Council for Terminal Attachments.

(c) The Administrative Council for Terminal Attachments shall ensure that the database is created and maintained in an equitable and nondiscriminatory manner. The manner in which the database is created and maintained shall not permit any entity or segment of the industry to gain a competitive advantage.

(d) The Administrative Council for Terminal Attachments shall file with the Commission, within 180 days of publication of these rules in the Federal Register, a detailed report of the structure of the database, including details of how the Administrative Council for Terminal Attachments will administer the database, the pertinent information to be included in the database, procedures for including compliance information in the database, and details regarding how the government and the public will access the information.

§ 68.612 Labels on terminal equipment.

Terminal equipment certified by a Telecommunications Certification Body or approved by the Supplier's Declaration of Conformity under this part shall be labeled. The Administrative Council for Terminal Attachments shall establish appropriate labeling of terminal equipment. Labeling shall meet the requirements of the Federal Communications Commission and the U.S. Customs Service for their respective enforcement purposes, and of consumers for purposes of identifying the responsible party, manufacturer and model number.

§ 68.614 Oppositions and appeals.

(a) Oppositions filed in response to the Administrative Council for Terminal Attachments' public notice of technical criteria proposed for publication must be received by the Administrative Council for Terminal Attachments within 30 days of public notice to be considered. Oppositions to proposed technical criteria shall be addressed through the appeals procedures of the authoring standards development organization and of the American National Standards Institute. If these procedures have been exhausted, the aggrieved party shall file its opposition with the Commission for de novo review.

(b) As an alternative, oppositions to proposed technical criteria may be filed directly with the Commission for de novo review within the 30 day public notice period.

[FR Doc. 01-1034 Filed 1-23-01; 8:45 am]

BILLING CODE 6712-01-U